DEPARTMENT OF TRANSPORTATION

Federal Aviation Administration

Ninth Meeting: RTCA Special Committee 206/EUROCAE WG 76 Plenary

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held June 11-15, 2007 from 9 a.m. to 5 p.m.

ADDRESSES: The meeting will be held at Grand Hotel Tyska torget 2, Box 1152, 600 41 Norrkoping, Sweden.

FOR FURTHER INFORMATION CONTACT: (1) RTCA Secretariat, 1828 L Street, NW., Suite 805, Washington, DC 20036-5133; telephone (202) 833-9339; fax (202) 833-9434; Web site http://www.rtca.org; (2) Hosted by LFV Group—Swedish Airports and Air Navigation Services; Onsite Contact: telephone +46-11-36401; Web site: http://www.grandhotel.elite.se, e-mail: info.grandhotel@elite.se; (3) Contact Person: Roger Li, Vikoplan 11, S-601 79 Norrkoping, Sweden, telephone +46-11-192713; Mobile +46-709-189148; Fax: +46-11-192246.

SUPPLEMENTARY INFORMATION: Pursuant to section 10(a)(2) of the Federal Advisory Committee Act (Pub. L. 92-463, 5 U.S.C., Appendix 2), notice is hereby given for a Special Committee 206 meeting/EUROCE WG 76. The agenda will include:

• June 11:

• Opening Season (Chairman's Remarks and Introductions, Review and Approve Meeting. Agenda and Minutes, Discussion, Action Item Review).

• Report on the May Task Force committee to harmonize the Met and AIS OSEDs.

• Due to the need to focus on finishing the document, there will be no general presentation at Norrkoping. If a presentation will enhance the ability to complete the document, it will be accepted.

• Breakout of Subgroup 1.

• Breakout of Subgroup 2.

• June 12:

• Subgroup 1 and Subgroup 2 Meetings.

• June 13:

• Subgroup 1 and Subgroup 2 Meetings.

• June 14:

• Subgroup 1 and Subgroup 2 Meetings.

• June 15:

• Plenary Session.

• Closing Session (Other Business, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 10, 2007.
Francisco Estrada C.,
RTCA Advisory Committee.

[FR Doc. 07-2498 Filed 5-18-07; 8:45 am]

BILLING CODE 4910-13-M